DEPARTMENT OF DEFENSE

Office of the Secretary

[Docket ID: DoD-2022-OS-0129]

Submission for OMB Review; Comment Request

AGENCY: Office of the Under Secretary of Defense for Research and Engineering, (OUSD(R&E)), Department of Defense (DoD).

ACTION: 30-Day information collection notice.

SUMMARY: The DoD has submitted to the Office of Management and Budget (OMB) for clearance the following proposal for collection of information under the provisions of the Paperwork Reduction Act.

DATES: Consideration will be given to all comments received by July 31, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Scholar Survey and Sponsoring Facilities (SF) Survey; OMB Control Number 0704-DSSS.

Type of Request: New.

SMART 2.0 Scholar Survey

Number of Respondents: 1,800.

Responses per Respondent: 1.

Annual Responses: 1,800.

Average Burden per Response: 30 minutes.

Annual Burden Hours: 900.

SMART 2.0 SF Survey

Number of Respondents: 60.

Responses per Respondent: 1.

Annual Responses: 60.

Average Burden per Response: 15 minutes.

Annual Burden Hours: 15.

Total Burden

Number of Respondents: 1,860.

Annual Responses: 1,860.

Annual Burden Hours: 915.

Needs and Uses: The information gathered through the “Scholar Survey” and “Sponsoring Facilities Survey” will inform the Department of Defense (DoD) on the Science, Mathematics and Research for Transformation (SMART) Scholarship for Service Program. The purpose of these surveys is to gain a better understanding of scholars' and sponsoring facilities' (SF) perspectives on the program and its impact on the scholar. Both surveys are part of a third-party evaluation of the SMART Program. The purpose of the scholar survey is to gain a deep perspective of SMART scholars who are participating or have participated in the program, understanding their perspective on how the SMART program operates, identifying program processes that are working well, suggesting what could be improved in the program, and determining the detailed outcomes of the program. The purpose of the SF survey is to gain a perspective of DoD facilities who are participating in the program, understanding their perspective on how the SMART program operates, identifying program processes that are working well, and suggesting what could be improved in the program. Both surveys aim to help improve the SMART Program.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 22, 2023.
Aaron T. Siegel,
Alternate OSD Federal Register Liaison Officer, Department of Defense.

[FR Doc. 2023-13804 Filed 6-28-23; 8:45 am]

BILLING CODE 5001-06-P